NATIONAL COUNCIL ON DISABILITY

Sunshine Act Meetings

TIME AND DATES: The Members of the National Council on Disability (NCD) will hold a quarterly business meeting on Thursday, November 19, 2020, 10:00 a.m.-4:00 p.m., Eastern Standard Time, via teleconference. Registration is not required.

PLACE: This meeting will occur via teleconference. Interested parties are encouraged to join the meeting in a listen-only status using the following call-in information: Teleconference number: 1-800-353-6461; Conference ID: 9807341; Conference Title: NCD Meeting; Host Name: Neil Romano. In the event of teleconference disruption or failure, attendees can follow the meeting by accessing the Communication Access Realtime Translation (CART) link provided. CART is text-only translation that occurs real time during the meeting and is not an exact transcript.

MATTERS TO BE CONSIDERED: The Chairman will provide a report followed by a discussion and vote on policy priorities for fiscal year 2021 and fiscal year 2022. Additional reports will be provided by the Executive Director and representatives from the Executive Committee prior to adjournment for lunch. Following lunch, Chair Catherine Lhamon of the United States Commission on Civil Rights will share research findings and recommendations from their recent report titled, “Subminimum Wages: Impacts on the Civil Rights of People with Disabilities.” A panel presentation will follow on successful transitions from 14(c) subminimum wage employment. Council Members will then provide committee reports on research projects currently in progress. The meeting will close with public comment.

AGENDA: The times provided below are approximations for when each agenda item is anticipated to be discussed (all times Eastern Standard Time):

Thursday, November 19

10:00-10:10 a.m. Welcome and Call to Order

10:10-10:35 a.m. Introductions, New Council Members Get Acquainted

10:35-11:15 a.m. Chairman's Report, Future Work of the Council

11:15-11:35 a.m. Executive Committee Reports

11:35-11:45 a.m. Executive Director's Report

11:45-1:00 p.m. Adjournment for Lunch

Note: CART and Phone Line will Disconnect

1:00-1:30 p.m. Presentation by Chair Catherine Lhamon of the U.S. Commission on Civil Rights regarding its latest report, “Subminimum Wages: Impact on the Civil Rights of People with Disabilities”

1:30-2:30 p.m. Successful Transitions from 14(c) Subminimum Wage Employment

2:30-3:30 p.m. Committee Reports on current Research Projects

1. Progress Report on COVID-19

2. Durable Medical Equipment report

3. Disparate Treatment of Puerto Rico Residents in Federal Programs

4. Examining Medicaid Reimbursement for Oral Healthcare of People with I/DD report

3:30-4:00 p.m. Public Comment

4:00 p.m.—Adjournment

Public Comment: Your participation during the public comment period provides an opportunity for us to hear from you—individuals, businesses, providers, educators, parents and advocates. Your comments are important in bringing attention to the issues in your community. Priority will be given to those who register their intent to provide comment in advance by sending an email to PublicComment@ncd.gov with the subject line “Public Comment” with your name, organization, state, and topic of comment included in the body of your email. Full-length written public comments may also be sent to that email address. All emails to register for public comment at the quarterly meeting must be received by Wednesday, November 18, 2020.

Each person will be given three minutes to present comment. If you are presenting as a group and prefer to choose a spokesperson, your group representative will be given six minutes to provide comment. To ensure your comments are accurately reflected and become part of the public record, NCD requests electronic submission prior to the meeting or immediately after to PublicComment@ncd.gov.

CONTACT PERSON FOR MORE INFORMATION: Anne Sommers, NCD, 1331 F Street NW, Suite 850, Washington, DC 20004; 202-272-2004 (V), or asommers@ncd.gov.

Accommodations: A CART streamtext link has been arranged for this meeting. The web link to access CART (in English) is: https://www.streamtext.net/player?event=NCD-QUARTERLY. If you require additional accommodations, please notify Anthony Simpson by sending an email to asimpson.cntr@ncd.gov as soon as possible and no later than 24 hours prior to the meeting.

Due to last-minute confirmations or cancellations, NCD may substitute agenda items without advance public notice.

Dated: November 10, 2020.
Sharon M. Lisa Grubb,
Executive Director.

[FR Doc. 2020-25278 Filed 11-12-20; 11:15 am]

BILLING CODE 8421-02-P